DEPARTMENT OF HEALTH AND HUMAN SERVICES

Administration for Community Living

Administration on Intellectual and Developmental Disabilities (AIDD); Notice of Meeting

AGENCY: President's Committee for People with Intellectual Disabilities (PCPID), HHS.

ACTION: Notice of Meeting.

DATES: Tuesday, October 16, 2012, from 8:30 a.m. to 3:15 p.m. (EST); and Wednesday, October 17, 2012, from 8:30 a.m. to 4:30 p.m. (EST). The meeting will be open to the public.

ADDRESSES: The meeting will be held in Conference Room 800 of the Hubert H. Humphrey Building, U.S. Department of Health and Human Services, 200 Independence Avenue SW., Washington, DC 20201. Individuals who would like to participate via conference call may do so by dialing 888-730-9135, pass code: 6725139. Individuals whose full participation in the meeting will require special accommodations (e.g., sign language interpreting services, assistive listening devices, materials in alternative format such as large print or Braille) should notify MJ Karimi, PCPID Program Analyst, via email at MJ.Karimie@acf.hhs.gov, or via telephone at 202-619-3165, no later than Monday, October 08, 2012. PCPID will attempt to meet requests for accommodations made after that date, but cannot guarantee ability to grant requests received after this deadline. All meeting sites are barrier free, consistent with the Americans with Disabilities Act (ADA), and the Federal Advisory Committee Act (FACA).

Agenda: Committee members will discuss preparation of the PCPID 2012 Report to the President, including its content and format, and related data collection and analysis required to complete the writing of the Report.

Additional Information: For further information, please contact Laverdia Taylor Roach, Senior Advisor, President's Committee for People with Intellectual Disabilities, 200 Independence Avenue SW., Room 637D, Washington, DC 20201. Telephone: 202-205-5970. Fax: 202-260-3053. Email: Laverdia.Roach@acf.hhs.gov.

SUPPLEMENTARY INFORMATION: PCPID acts in an advisory capacity to the

President and the Secretary of Health and Human Services, through the Administration on Intellectual and Developmental Disabilities, on a broad range of topics relating to programs, services and supports for persons with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: September 6, 2012.
Sharon Lewis,
Commissioner, Administration on Intellectual and Developmental Disabilities.

[FR Doc. 2012-22830 Filed 9-14-12; 8:45 am]

BILLING CODE 4154-01-P